Proclamation 7593 of September 13, 2002

National Historically Black Colleges and Universities Week, 2002

By the President of the United States of America

A Proclamation

America's Historically Black Colleges and Universities are a vital part of our Nation's higher education system. During National Historically Black Colleges and Universities Week, we renew our dedication to these institutions and strengthen our commitment to securing educational freedom, opportunity, and access for every American.

Emerging more than a century ago in a segregated society, our Historically Black Colleges and Universities have provided quality education and promoted greater participation by African Americans in every sector of our society. These institutions continue to serve as centers of hope and opportunity, reflecting the belief that every student in America should have access to a college education. While constituting less than 3 percent of America's institutions of higher education, today they enroll 14 percent of all African Americans enrolled in colleges or universities.

These schools represent a source of accomplishment and great pride for both the African-American community and our entire Nation. The various founders of our Historically Black Colleges and Universities understood that high standards and quality instruction would prepare their students to follow their dreams and succeed in life. By opening doors to new academic pursuits, these schools have encouraged and enabled generations of African Americans to reach their full potential.

America must continue to support these important institutions, because they provide educational opportunities that otherwise might not be available. In 1980, Executive Order 12232 established a Federal program to enhance equal opportunity and strengthen the capacity of Historically Black Colleges and Universities to provide excellence in education. My Administration remains committed to this important mission and to making the goal of higher education accessible to our citizens.

America recognizes and honors the many achievements of Historically Black Colleges and Universities, and their invaluable contributions to our country. They help foster a culture of achievement and create a brighter future for all Americans.

NOW, THEREFORE, I, GEORGE W. BUSH, President of the United States of America, by virtue of the authority vested in me by the Constitution and laws of the United States, do hereby proclaim September 15 through September 21, 2002, as National Historically Black Colleges and Universities Week. I call upon public officials, educators, librarians, and citizens of the United States to observe this week with appropriate ceremonies, activities, and programs in order to show our appreciation for these remarkable educational institutions, and to commend the achievements of their talented graduates.

IN WITNESS WHEREOF, I have hereunto set my hand this thirteenth day of September, in the year of our Lord two thousand two, and of the Independence of the United States of America the two hundred and twenty-seventh.

B

[FR Doc. 02-23999

Filed 9-18-02; 8:45 am]

Billing code 3195-01-P